FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 22, 2017.

A. Federal Reserve Bank of Kansas City (Dennis Denney, Assistant Vice President) 1 Memorial Drive, Kansas City, Missouri 64198-0001:

1. Lloyd K. Culbertson Revocable Trust, Lloyd Culbertson, trustee; The Kent and Toni Culbertson Living Trust, L. Kent Culbertson, trustee and Antonia J. Culbertson, trustee and individually; all of Phillipsburg, Kansas; to acquire voting shares of Golden Plains Bankshares, Inc., Phillipsburg, Kansas (the Company), and thereby indirectly acquire First National Bank and Trust, Phillipsburg, Kansas. In addition, The Katherine Culbertson Revocable Trust, Lloyd Culbertson, trustee; The Deanna F. Culbertson Revocable Trust and Deanna F. Culbertson, as trustee, both of Phillipsburg, Kansas; and The Shane Culbertson Living Trust, and Shane Culbertson, trustee, both of Olathe, Kansas, to retain voting shares of the Company and be approved as members of the Culbertson Family Group.

Board of Governors of the Federal Reserve System, May 2, 2017.
Yao-Chin Chao,
Assistant Secretary of the Board.

[FR Doc. 2017-09127 Filed 5-4-17; 8:45 am]

BILLING CODE 6210-01-P